COMMISSION ON CIVIL RIGHTS

Notice of Public Meeting of the New York Advisory Committee

AGENCY: U.S. Commission on Civil Rights.

ACTION: Notice of meetings.

SUMMARY: Notice is hereby given, pursuant to the provisions of the rules and regulations of the U.S. Commission on Civil Rights (Commission) and the Federal Advisory Committee Act that the New York Advisory Committee (Committee) will hold meetings via WebEx on Friday, February 19, 2021; March 19, 2021; April 16, 2021, and May 21, 2021 from 1:00-2:15 p.m. ET for the purpose of discussing the New York Advisory Committee's project and upcoming briefings on eviction policies and enforcement in New York.

DATES: The meetings will be held on the following dates from 1:00 p.m.-2:15 p.m. ET.

• February 19, 2021 from 1:00 p.m.-2:15 p.m. ET

• March 19, 2021 from 1:00 p.m.-2:15 p.m. ET

• April 16, 2021 from 1:00 p.m.-2:15 p.m. ET

• May 21, 2021 from 1:00 p.m.-2:15 p.m. ET

To join by web conference: https://civilrights.webex.com/civilrights/j.php?MTID=m71c12750a2fb6067793695c7b73b7044.

• Password if prompted: USCCR

• If you wish to remain anonymous, please enter an alias when joining the meeting so your name does not appear in the Webex participant list

To join by phone only, dial: 1-800-360-9505; Access code: 199 963 9326.

FOR FURTHER INFORMATION CONTACT: Mallory Trachtenberg, DFO, at mtrachtenberg@usccr.gov or 202-809-9618.

SUPPLEMENTARY INFORMATION: Members of the public can listen to the discussion. An open comment period will be provided to allow members of the public to make a statement as time allows. Callers can expect to incur charges for calls they initiate, and the Commission will not refund any incurred charges. Persons with hearing impairments may also follow the proceedings by first calling the Federal Relay Service at 1-800-977-8339 and providing the Service with the conference call number and conference ID number. To request additional accommodations, please email mtrachtenberg@usccr.gov at least 7 days prior to the meeting for which accommodations are requested.

Members of the public are also entitled to submit written comments; the comments must be received in the regional office within 30 days following the meeting. Written comments may be emailed to mtrachtenberg@usccr.gov in the Regional Programs Unit Office/Advisory Committee Management Unit. Persons who desire additional information may contact the Regional Programs Unit at 202-809-9618.

Records generated from this meeting may be inspected and reproduced at the Regional Programs Unit Office, as they become available, both before and after the meeting. Records of the meeting will be available via https://www.facadatabase.gov/FACA/apex/FACAPublicCommittee?id=a10t0000001gzmAAAQ under the Commission on Civil Rights, New York Advisory Committee link. Please select the “Committee Meetings” tab. Persons interested in the work of this Committee are also directed to the Commission's website, http://www.usccr.gov, or may contact the Regional Programs Unit office at the above email or phone number.

Agenda

I. Welcome and Roll Call

II. Announcements and Updates

III. Approval of Minutes

IV. Discussion: Committee's Project on Eviction Policies and Enforcement in New York

V. Public Comment

VI. Next Steps

VII. Adjournment

Dated: January 19, 2021.
David Mussatt,
Supervisory Chief, Regional Programs Unit.

[FR Doc. 2021-01523 Filed 1-25-21; 8:45 am]

BILLING CODE 6335-01-P